FEDERAL COMMUNICATIONS COMMISSION

47 CFR Part 76

[MB Docket No. 16-126; FCC 17-73]

Declaratory Ruling That Cable Operators May Provide Notice by Email

AGENCY: Federal Communications Commission.

ACTION: Final rule; declaratory ruling.

SUMMARY: In this Declaratory Ruling, the Commission clarifies that cable operators may provide required written information to subscribers by email to a verified email address and must include a telephone number for subscribers to opt out of email notification at any time and choose to continue to receive paper copies of the notices.

DATES: Applicable August 1, 2017.

FOR FURTHER INFORMATION CONTACT: Katie Costello of the Policy Division, Media Bureau at (202) 418-2233 or Katie.Costello@fcc.gov.

SUPPLEMENTARY INFORMATION: This is a summary of the Declaratory Ruling, dated June 16, 2017, released June 21, 2017, FCC 17-73, MB Docket No. 16-126. The full text of the Declaratory ruling is available for public inspection and copying during regular business hours in the FCC Reference Center, Federal Communications Commission, 445 12th Street SW., Room CY-A257, Washington, DC 20554. This document will also be available via ECFS at http://apps.fcc.gov/ecfs/. Documents will be available electronically in ASCII, Microsoft Word, and/or Adobe Acrobat. The complete text may be purchased from the Commission's copy contractor, 445 12th Street SW., Room CY-B402, Washington, DC 20554. Alternative formats are available for people with disabilities (Braille, large print, electronic files, audio format), by sending an email to fcc504@fcc.gov or calling the Commission's Consumer and Governmental Affairs Bureau at (202) 418-0530 (voice), (202) 418-0432 (TTY).

Synopsis

The Commission issued a Declaratory Ruling, FCC 17-73, on June 21, 2017 that clarifies that cable operators may provide the written notices required by 47 CFR 76.1602(b) via email to a verified email address and must include a telephone number for customers to opt out of email notification at any time and choose to receive paper copies of the notices. The Commission's rule, 47 CFR 76.1602(b), requires cable operators to provide their subscribers with written information that includes the types of products and services offered, the prices for each service, and installation and service maintenance policies. The National Cable & Telecommunications Association and the American Cable Association filed a Petition for Declaratory Ruling with the Commission requesting that the Commission clarify that the notices may be delivered to customers via email. The Media Bureau published a Public Notice seeking comment on the Petition in the Federal Register, 81 FR 24050-01 (April 25, 2016). Permitting cable operators to comply with section 76.1602(b) by delivering the required information via email falls squarely within the language of the rule. It is reasonable to interpret the term “written information” in section 76.1602(b) to include information delivered by email. The benefits of permitting email delivery include the positive environmental aspects of saving substantial amounts of paper annually, increased efficiency and enabling customers to more readily access accurate information regarding their service options. This clarification is consistent with other Commission actions permitting electronic records in lieu of paper records.

Electronic delivery of notices will ease the regulatory burden for all cable operators, including small cable operators. In this Declaratory Ruling, a verified email address is defined as (1) an email address that the customer has provided to the cable operator (and not vice versa) for purposes of receiving communication, (2) an email address that the customer regularly uses to communicate with the cable operator, or (3) an email address that has been confirmed by the customer as an appropriate vehicle for the delivery of notices. Use of a verified email address will ensure that the notices have a high probability of being successfully delivered electronically to an email address that the customer uses, so that the written information is actually provided to the customer. If no verified email contact information is available for a customer, cable operators must continue to deliver the notices by paper copies. Customers must “be informed that they may request and receive a paper version of their section 76.1602(b) notices” instead of email delivery. This option will afford customers the opportunity to opt out of email notification at any time and choose to continue to receive paper copies of the notices. Cable operators must include an opt-out telephone number that is clearly and prominently presented to customers in the body of the originating email that delivers the notices, so that it is readily identifiable as an opt-out option. For the reasons stated above, it is ordered, pursuant to section 632 of the Communications Act of 1934, as amended, 47 U.S.C. 552, and sections 1.2 and 76.1602 of the Commission's rules, 47 CFR 1.2, 76.1602, that the Petition for Declaratory Ruling filed by the National Cable & Telecommunications Association and the American Cable Association is granted to the extent indicated herein and is otherwise denied. It is further ordered that this Declaratory Ruling shall be effective upon the date specified in a notice published in the Federal Register announcing Office of Management and Budget approval of the information collection requirements pursuant to the Paperwork Reduction Act. The Office of Management and Budget approved this non-substantive change to the information collection for 47 CFR 76.1602(b) on July 20, 2017.

Federal Communications Commission.
Marlene H. Dortch,
Secretary.

[FR Doc. 2017-16075 Filed 7-31-17; 8:45 am]

BILLING CODE 6712-01-P